DEPARTMENT OF TRANSPORTATION

Federal Motor Carrier Safety Administration

[Docket No. FMCSA-2014-0109]

Agency Information Collection Activities; Revision of a Currently-Approved Information Collection Request: Accident Recordkeeping Requirements

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for approval and invites public comment. FMCSA requests approval to revise the ICR entitled “Accident Recordkeeping Requirements.” This ICR relates to Agency requirements that motor carriers maintain a record of certain accidents involving commercial motor vehicles (CMVs). Motor carriers are not required to report this data to FMCSA, but must produce it upon inquiry by authorized Federal, State or local officials.

DATES: Please send your comments by June 5, 2014. OMB must receive your comments by this date in order to act on the ICR.

ADDRESSES: All comments should reference Federal Docket Management System (FDMS) Docket Number FMCSA-2014-0109. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Thomas Yager, Chief, Driver and Carrier Operations Division, Department of Transportation, Federal Motor Carrier Safety Administration, West Building 6th Floor, 1200 New Jersey Avenue SE., Washington, DC 20590. Telephone: 202-366-4325; email tom.yager@dot.gov. Office hours are from 9 a.m. to 5 p.m., Monday through Friday, except Federal Holidays.

SUPPLEMENTARY INFORMATION: Title: Accident Recordkeeping Requirements.

OMB Control Number: 2126-0009.

Type of Request: Revision of a currently-approved information collection request.

Respondents: Motor Carriers.

Estimated Number of Respondents: 520,000 motor carriers.

Estimated Time per Response: 18 minutes.

Expiration Date: May 31, 2014.

Frequency of Response: On occasion.

Estimated Total Annual Burden: 26,700 hours [89,000 motor carriers recording an accident × 18 minutes per response/60 minutes in an hour = 26,700].

Background: Title 49 of the Code of Federal Regulations, § 390.15(b), requires motor carriers to make certain specified records and information pertaining to CMV accidents available to an authorized representative or special agent of the FMCSA upon request or as part of an inquiry. Interstate motor carriers are required to maintain an “accident register” consisting of information concerning all “accidents” involving their CMVs (49 CFR 390.15(b) (see “Definition: Accident” below). Motor carriers must report accidents that occur in interstate and intrastate commerce. The following information must be recorded for each accident: Date, location, driver name, number of injuries, number of fatalities, and whether certain dangerous hazardous materials were released. In addition, motor carriers must maintain copies of all accident reports required by insurers or governmental entities. Motor carriers must maintain this information for three years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

Public Comments: Two comments were received in response to this notice. The first respondent expressed concern about the lack of notification by the reporting officer at the crash scene to the driver and motor carrier. In a recent accident, he was not made aware the accident was a DOT Recordable Accident until it was reported by the officer on the police report. The respondent did not address the ICR burden of the Accident Register. The second respondent suggested that the Agency could better utilize the information contained in the Accident Register by improving Police Accident Reports (PARs). However, PARs are designed and used exclusively by State and local enforcement agencies; the FMCSA lacks authority to amend or otherwise improve PARs.

Definition: “Accident” is an occurrence involving a CMV operating on a public road which results in: (1) A fatality, (2) bodily injury to a person who, as a result of the injury, receives medical treatment away from the scene of the accident, or (3) one or more motor vehicles being towed from the scene (49 CFR 390.5).

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: April 16, 2014.
G. Kelly Leone,
Associate Administrator, Office of Research and Information Technology and Chief Information Officer.

[FR Doc. 2014-10313 Filed 5-5-14; 8:45 am]

BILLING CODE 4910-EX-P